DEPARTMENT OF THE INTERIOR

National Park Service

[NPS-WASO-NRNHL-19623; PPWOCRADI0, PCU00RP14.R50000]

National Register of Historic Places; Notification of Pending Nominations and Related Actions

AGENCY: National Park Service, Interior.

ACTION: Notice.

SUMMARY: The National Park Service is soliciting comments on the significance of properties nominated before October 17, 2015, for listing or related actions in the National Register of Historic Places.

DATES: Comments should be submitted by November 23, 2015.

ADDRESSES: Comments may be sent via U.S. Postal Service to the National Register of Historic Places, National Park Service, 1849 C St. NW., MS 2280, Washington, DC 20240; by all other carriers, National Register of Historic Places, National Park Service, 1201 Eye St. NW., 8th Floor, Washington, DC 20005; or by fax, 202-371-6447.

SUPPLEMENTARY INFORMATION: The properties listed in this notice are being considered for listing or related actions in the National Register of Historic Places. Nominations for their consideration were received by the National Park Service before October 17, 2015. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ALASKA

Anchorage Borough-Census Area

Wireless Station, The, 124, 132, 140 E. Manor Ave., Anchorage, 15000843

DELAWARE

Sussex County

Evans—West House, 40 West Ave., Ocean View, 15000844

DISTRICT OF COLUMBIA

District of Columbia

U.S. Department of Agriculture Administration Building (Boundary Increase and Additional Documentation), 12th St. & Jefferson Dr., SW., Washington, 15000845

GUAM

Guam County

U.S. Naval Cemetery, Marine Corps Dr., Hagatna, 15000846

HAWAII

Honolulu County

Guard, J.B., House, 305A Portlock Rd., Honolulu, 15000847

LOUISIANA

East Baton Rouge Parish

Union Federal Savings and Loan Association, (Architecture of A. Hays Town in Louisiana MPS) 500 Laurel St., Baton Rouge, 15000848

MINNESOTA

Hennepin County

Schmid Farmhouse Ruin, (Minnesota's Nineteenth-Century Masonry Ruins MPS) .38 mi. NE. of jct. of Cty Rd. 44 and CSAH 7, Minnetrista, 15000849

NEW JERSEY

Camden County

Cooper Grant Historic District (Boundary Increase), 300 N. Delaware Ave., Camden, 15000850

NEW MEXICO

Santa Fe County

Petroglyph Hill, (Ancestral Puebloan and Spanish Colonial Landscapes in the Greater Galisteo Basin MPS) Address Restricted, Galisteo, 15000851

NEW YORK

Lewis County

Beaver Falls Grange Hall No. 554, 9577 Main St., Beaver Falls, 15000852

Schenectady County

St. Columba School, 400 Craig St., Schenectady, 15000853

Young Men's Christian Association of Schenectady, 9-13 State St., Schenectady, 15000854

Schoharie County

Miers, Jacob T., House, 103 Knower Ave., Schoharie, 15000857

PUERTO RICO

Naguabo Municipality

Icacos Petroglyph Group, (Prehistoric Rock Art of Puerto Rico MPS) Address Restricted, Naguabo, 15000855

WYOMING

Natrona County

Turner—Cottman Building, 120-130 W. 2nd St., Casper, 15000856

Sweetwater County

Bairoil Town Hall, 505 Antelope Dr., Bairoil Dr., 15000858

A request to move has been received for the following resources:

COLORADO

El Paso County

Rio Grande Engine No. 168, 9 S. Sierra Madre, Colorado Springs, 79000601

MINNESOTA

Washington County

Bergstein, Moritz, Shoddy Mill and Warehouse, 6046 Stagecoach Rd., Oak Park Heights, 08000133

A request for removal has been received for the following resource:

WYOMING

Laramie County

Corlett School, 600 W. 22nd St., Cheyenne, 05000702

Authority: 60.13 of 36 CFR part 60

Dated: October 20, 2015.
J. Paul Loether,
Chief, National Register of Historic Places/National Historic Landmarks Program.

[FR Doc. 2015-28295 Filed 11-5-15; 8:45 am]

BILLING CODE 4312-51-P